DEPARTMENT OF HOMELAND SECURITY

Office of the General Counsel; Senior Executive Service Performance Review Board

AGENCY: Office of the General Counsel, DHS.

ACTION: Notice.

SUMMARY: This notice announces the appointment of the members of the Performance Review Board (PRB) for the Office of the General Counsel, Department of Homeland Security (DHS). The purpose of the PRB is to review and make recommendations concerning proposed performance appraisals, ratings, bonuses, pay adjustments, and other appropriate personnel actions for incumbents of Senior Executive Service (SES) positions for which the General Counsel is the appointing authority. The PRB will perform PRB functions for other DHS SES positions if requested.

EFFECTIVE DATE: This Notice is effective November 8, 2004.

FOR FURTHER INFORMATION CONTACT: Ms. Michele Burton, Director, Executive Services, Office of Human Resources Management, U.S. Customs and Border Protection, 1300 Pennsylvania Avenue, NW, Room 2.4-A, Washington, DC 20229. Telephone (202) 344-2525.

SUPPLEMENTARY INFORMATION: Title 5 U.S.C. 4314(c) requires each Federal agency to establish one or more performance review boards to make recommendations, as necessary, in regard to the performance of senior executives within the agency. This notice announces the appointment of the members of the PRB for the Office of the General Counsel for DHS. The purpose of the PRB is to review and make recommendations concerning proposed performance appraisals, ratings, bonuses, pay adjustments, and other appropriate personnel actions for incumbents of SES positions for which the General Counsel of DHS is the appointing authority. The Board will perform PRB functions for other DHS SES positions if requested.

This notice does not constitute a significant regulatory action as are defined under section 3(f) of Executive Order 12866. Therefore, DHS has not submitted this notice to the Office of Management and Budget.

Further, because this notice is a matter of agency organization, procedure and practice, DHS is not required to follow the rulemaking requirements under the Administrative Procedure Act (5 U.S.C. 553).

Composition of Departmental PRB: The Board shall consist of at least three members. In the case of an appraisal of a career appointee, more than half of the members shall consist of career appointees. The names and titles of the PRB members are as follows:

Elizabeth L. Branch, Associate General Counsel for Rules and Regulations, Office of the General Counsel, DHS;

Dea Doris Carpenter, Deputy Chief Counsel, U.S. Citizenship and Immigration Services;

Thomas J. Connelly, Associate General Counsel for Information Analysis and Infrastructure Protection, Office of the General Counsel, DHS;

Francine J. Kerner, Chief Counsel, Transportation Security Administration;

John J. Kelleher, Chief Counsel, U.S. Secret Service;

Calvin M. Lederer, Deputy Judge Advocate General, U.S. Coast Guard;

Barry C. O'Melinn, Deputy Principal Legal Advisor, U.S. Immigration and Customs Enforcement;

Alfonso Robles, Chief Counsel, U.S. Customs and Border Protection; and

Hugo Teufel III, Associate General Counsel for General Law, Office of the General Counsel, DHS.

Mary Kate Whalen,
Deputy Associate General Counsel for Regulations, Office of the General Counsel, Department of Homeland Security.

[FR Doc. 04-24953 Filed 11-5-04; 8:45 am]

BILLING CODE 4410-10-P